NUCLEAR REGULATORY COMMISSION

Advisory Committee on the Medical Uses of Isotopes: Meeting Notice

AGENCY: U.S. Nuclear Regulatory Commission.

ACTION: Notice of meeting.

SUMMARY: The U.S. Nuclear Regulatory Commission will convene a teleconference meeting of the Advisory Committee on the Medical Uses of Isotopes (ACMUI) on March 22, 2004. The topics of discussion will be training and experience (T&E) issues associated with 10 CFR 35.300, other T&E issues as necessary, and the dose reconstruction associated with the St. Joseph Mercy Hospital case.

DATES: The teleconference meeting will be held on Monday, March 22, 2004, from 1 p.m. to 3 p.m. Eastern Standard Time.

Public Participation: Any member of the public who wishes to participate in the teleconference discussion may contact Angela R. Williamson using the contact information below.

FOR FURTHER INFORMATION CONTACT: Angela R. Williamson, telephone (301) 415-5030; e-mail arw@nrc.gov of the Office of Nuclear Material Safety and Safeguards, U.S. Nuclear Regulatory Commission, Washington, DC 20555-0001.

Conduct of the Meeting

Manuel D. Cerqueira, M.D., will chair the meeting. Dr. Cerqueira will conduct the meeting in a manner that will facilitate the orderly conduct of business. The following procedures apply to public participation in the meeting:

1. Persons who wish to provide a written statement should submit a reproducible copy to Angela Williamson, U.S. Nuclear Regulatory Commission, Two White Flint North, Mail Stop T8F5, Washington, DC 20555-0001. Hard copy submittals must be postmarked by March 17, 2004. Electronic submittals must be submitted by March 17, 2004. Any submittal must pertain to the topic on the agenda for the meeting.

2. Questions from members of the public will be permitted during the meeting, at the discretion of the Chairman.

3. The transcript and written comments will be available for inspection on NRC's Web site (http://www.nrc.gov) and at the NRC Public Document Room, 11555 Rockville Pike, Rockville, MD 20852-2738, telephone (800) 397-4209, on or about April 1, 2004. Minutes of the meeting will be available on or about May 3, 2004.

This meeting will be held in accordance with the Atomic Energy Act of 1954, as amended (primarily Section 161a); the Federal Advisory Committee Act (5 U.S.C. App); and the Commission's regulations in Title 10, U.S. Code of Federal Regulations, part 7.

Dated: March 4, 2004.
Andrew L. Bates,
Advisory Committee Management Officer.

[FR Doc. 04-5338 Filed 3-9-04; 8:45 am]

BILLING CODE 7590-01-P